DEPARTMENT OF EDUCATION

Office of Vocational and Adult Education; Intent To Repay the Commonwealth of Massachusetts Department of Education Funds Recovered as a Result of a Final Audit Determination

AGENCY: Department of Education.

ACTION: Notice of intent to award grantback funds.

SUMMARY: Under section 459 of the General Education Provisions Act (GEPA), 20 U.S.C. 1234h, the Secretary of Education (Secretary) intends to repay to the Commonwealth of Massachusetts Department of Education (Massachusetts), under a grantback arrangement, an amount equal to 75 percent of the principal amount of funds recovered by the U.S. Department of Education (Department) as a result of the final audit determination in this matter (ACN: 01-33145G). The Department's recovery of funds followed the settlement reached between the parties under which Massachusetts refunded $2,111,810 to the Department in full resolution of the Department's final audit determination for State fiscal year (FY) 1992. This notice describes Massachusetts' plan for the use of the repaid funds and the terms and conditions under which the Secretary intends to make those funds available. This notice invites comments on the proposed grantback.

DATES: All comments must be received on or before August 2, 2000.

ADDRESSES: All written comments should be addressed to Ron Castaldi, Chief, Division of Vocational-Technical Education, Office of Vocational and Adult Education, U.S. Department of Education, 400 Maryland Avenue SW, Mary E. Switzer Building, Room 4317, MS 7323, Washington, DC 20202.

FOR FURTHER INFORMATION CONTACT: Ron Castaldi. Telephone: (202) 205-9444. If you use a telecommunications device for the deaf (TDD), you may call the Federal Information Relay Service (FIRS) at 1-800-877-8339.

SUPPLEMENTARY INFORMATION

A. Background

Under the settlement agreement between the Department and the Commonwealth of Massachusetts, the Department recovered $2,111,810 from Massachusetts in full resolution of all claims arising from an audit of Massachusetts covering FY 1992 (ACN: 01-33145G).

The Department's original claim of $4,604,211 was contained in a program determination letter (PDL) issued by the Assistant Secretary for Vocational and Adult Education on March 31, 1995. This claim arose from findings related to Massachusetts' administration of its vocational education program under the provisions of the Carl D. Perkins Vocational and Applied Technology Education Act. 20 U.S.C. 2301 et seq. (1988) (Perkins II).

In the March 31, 1995 PDL, the Assistant Secretary determined that Massachusetts violated the Federal requirements governing maintenance of fiscal effort. Specifically, the Assistant Secretary concluded that Massachusetts failed to expend non-Federal funds at an appropriate level to maintain fiscal effort on either an aggregate or per pupil basis, thus violating section 502(a) of Perkins II (20 U.S.C. 2463(a)).

The settlement negotiations resulting from Massachusetts' appeal of the Assistant Secretary's March 31, 1995 PDL culminated in a settlement agreement for a total repayment of a principal amount of $2,111,810. The settlement agreement was executed on August 15, 1997. The Department received full payment for this determination in September 1997.

B. Authority for Awarding a Grantback

Section 459(a) of GEPA, 20 U.S.C. 1234h(a), provides that whenever the Secretary has recovered funds following a final audit determination with respect to any applicable program, the Secretary may consider those funds to be additional funds available for the program and may arrange to repay to the State or local educational agency affected by that determination an amount not to exceed 75 percent of the recovered funds. The Secretary may enter into this grantback arrangement if the Secretary determines that—

(1) The practices or procedures of the recipient that resulted in the violation of law have been corrected, and that the recipient is in all other respects in compliance with the requirements of that program;

(2) The recipient has submitted to the Secretary a plan for the use of those funds pursuant to the requirements of that program and, to the extent possible, for the benefit of the population that was affected by the failure to comply or by the misuse of funds that resulted in the recovery; and

(3) The use of the funds in accordance with that plan would serve to achieve the purposes of the program under which the funds were originally paid.

C. Plan for Use of Funds Awarded Under a Grantback Arrangement

Pursuant to section 459(a)(2) of GEPA, Massachusetts has applied for a grantback of $1,583,858, or 75 percent of the $2,111,810 repaid to the Department under the settlement agreement, and has submitted a plan for use of the proposed grantback funds, consistent with the Carl D. Perkins Vocational and Technical Education Act of 1998 (Perkins III), which is the successor statute to Perkins II and is currently in effect. Massachusetts plans to establish new career and technical education programs in high-wage, high-demand emerging career fields where there is a critical shortage of skilled workers, and to assist existing career and technical programs seeking national program certification.

Specifically, Massachusetts plans to utilize the requested grantback funds, totaling $1,583,858, to offer a competitive Request for Proposal for Perkins-eligible secondary schools with career and technical programs. Funds will be used either to begin a career and technical education program in a new and emerging field, or to update an existing program using the National Program Standards as a framework. The award of grants will be weighed in favor of schools with a higher concentration of special populations. Massachusetts expects to award 20-25 grants ranging from $50,000 to $100,000 each. Grant recipients will be required to match on a dollar for dollar basis the total grant request from State, local, business and industry, or other non-Perkins Federal funding source. The Request for Proposal will include a stipulation that schools include enrollment figures for new proposed programs or grant-impacted programs, and also include the number of students who are members of special populations. Grant funds awarded under this Request for Proposal cannot be used to supplant activities that are currently being funded.

D. The Secretary's Determination

The Secretary has carefully reviewed the plan submitted by Massachusetts and other relevant documentation. Based upon that review, the Secretary has determined that the conditions under section 459 of GEPA have been met.

This determination is based upon the best information available to the Secretary at the present time. If this information is not accurate or complete, the Secretary is not precluded from taking appropriate administrative action at a later date. In finding that the conditions of section 459 of GEPA have been met, the Secretary makes no determination concerning any pending audit recommendations or final audit determinations.

E. Notice of the Secretary's Intent To Enter Into a Grantback Arrangement

Section 459(d) of GEPA requires that, at least 30 days before entering into an arrangement to award funds under a grantback, the Secretary must publish in the Federal Register a notice of intent to do so, and the terms and conditions under which the payment will be made.

In accordance with section 459(d) of GEPA, notice is hereby given that the Secretary intends to make funds available to the Massachusetts Department of Education under a grantback arrangement. The grantback award would be in the amount of $1,583,858, which is 75 percent—the maximum percentage authorized by the statute—of the principal recovered by the Department as a result of the final audit determination and the settlement in this matter.

F. Terms and Conditions Under Which Payments Under a Grantback Arrangement Would Be Made

Massachusetts agrees to comply with the following terms and conditions under which payment under a grantback arrangement would be made:

(1) Massachusetts will expend the funds awarded under the grantback in accordance with—

(a) All applicable statutory and regulatory requirements;

(b) The plan that was submitted and any amendments to the plan that are approved in advance by the Secretary; and

(c) The budget that was submitted with the plan and any amendments to the budget that are approved in advance by the Secretary.

(2) All funds received under the grantback arrangement must be obligated by September 30, 2000, for ACN: 01-33145G, in accordance with section 459(c) of GEPA and Massachusetts' plan.

(3) Massachusetts will, no later than January 1, 2002, submit a report to the Secretary which—

(a) Indicates that the funds awarded under the grantback have been expended in accordance with the proposed plan and approved budget; and

(b) Describes the results and effectiveness of the project for which the funds were spent.

(4) Separate accounting records must be maintained documenting the expenditures of funds awarded under the grantback arrangement.

Electronic Access to This Document

You may view this document, as well as all other Department of Education documents published in the Federal Register, in text or Adobe Portable Document Format (PDF) on the Internet at either of the following sites:

http://ocfo.ed.gov/fedreg.htm

http://www.ed.gov/news.html

To use the PDF, you must have Adobe Acrobat Reader, which is available free at either of the previous sites. If you have questions about using the PDF, call the U.S. Government Printing Office toll free at 1-888-293-6498; or in the Washington, DC area at (202) 512-1530.

Note: The official version of a document is the document published in the Federal Register. Free Internet access to the official edition of the Federal Register and the Code of Federal Regulations is available on GPO Access at: http://www.access.gpo.gov/nara/index.html.

(Catalog of Federal Domestic Assistance Number 84.048, Basic State Grants for Vocational Education)

Dated: June 28, 2000.
Patricia W. McNeil,
Assistant Secretary for Vocational and Adult Education.

[FR Doc. 00-16750 Filed 6-30-00; 8:45 am]

BILLING CODE 4000-01-U